DEPARTMENT OF ENERGY

Federal Energy Regulatory Commission

[Docket No. EL17-46-000]

Basin Electric Power Cooperative; Notice of Petition for Partial Waiver

Take notice that on February 6, 2017, pursuant to section 292.402 of the Federal Energy Regulatory Commission's (Commission) Rules and Regulations,¹ Basin Electric Power Cooperative (Basin Electric) on its own behalf and on behalf of 72 rural electric cooperative member-owners (collectively, the Participating Members),² filed a Petition for Partial Waiver

¹ 18 CFR 292.402 (2016).

² Basin Electric's Participating Member-owners joining in this petition are Agralite Electric Cooperative, Big Flat Electric Co-op, Inc., Black Hills Electric Cooperative, Inc., Bon Homme Yankton Electric Association, Inc., Burke-Divide Electric Cooperative, Inc., Butte Electric Cooperative, Inc., Cam Wal Electric Cooperative, Inc., Capital Electric Cooperative, Inc., Central Electric Cooperative, Inc., Central Montana Electric Power Cooperative, Inc., Central Power Electric Cooperative, Inc., Charles Mix Electric Association, Inc., Cherry-Todd Electric Cooperative, Inc., City of Elk Point, Clay-Union Electric Corporation, Codington-Clark Electric Cooperative, Inc., Crow Wing Cooperative Power and Light Company, Dakota Valley Electric Cooperative, Inc., Douglas Electric Cooperative, Inc., East River Electric Power Cooperative, Inc., FEM Electric Association, Inc., Fergus Electric Cooperative, Inc., Goldenwest Electric Coop., Inc., Grand Electric Cooperative, Inc., H-D Electric Cooperative, Inc., Hill County Electric Cooperative, Inc., KEM Electric Cooperative, Inc., Kingsbury Electric Cooperative, Inc., L & O Power Cooperative, Lacreek Electric Association, Inc., Lake Region Electric Association, Inc., Lower Yellowstone Rural Electric Cooperative, Lyon Rural Electric Cooperative, Lyon-Lincoln Electric Cooperative, Inc., Marias River Electric Cooperative, Inc., McCone Electric Co-op., Inc., McKenzie Electric Cooperative, Inc., McLean Electric Cooperative, Inc., Mid-Yellowstone Electric Cooperative, Minnesota Valley Cooperative Light & Power Association, Mor-Gran-Sou Electric Cooperative, Inc., Moreau-Grand Electric Cooperative, Inc., Mountrail-Williams Electric Cooperative, North Central Electric Cooperative, Inc., Northern Electric Cooperative, Inc., Northern Plains Electric Cooperative, Inc., NorVal Electric Cooperative, Inc., Oahe Electric Cooperative, Inc., Osceola Electric Cooperative, Inc., Park Electric Cooperative, Inc., Powder River Energy Corporation, Redwood Electric Cooperative, Renville-Sibley Co-op Power Association, Rosebud Electric Cooperative, Inc., Roughrider Electric Cooperative, Inc., Rushmore Electric Power Cooperative, Inc., Sheridan Electric Co-op., Inc., Sioux Valley- Southwestern Electric Cooperative, Inc., Slope Electric Cooperative, Inc., South Central Electric Association, Southeast Electric Cooperative, Inc.,

Southeastern Electric Cooperative, Inc., Sun River Electric Cooperative, Inc., Tongue River Electric Cooperative, Inc., Traverse Electric Cooperative, Inc., Union County Electric Cooperative, Inc., Upper Missouri G & T Electric Cooperative, Inc., Verendrye Electric Cooperative, West Central Electric Cooperative, Inc., West River Electric Association, Inc., Whetstone Valley Electric Cooperative, Inc., and Yellowstone Valley Electric Cooperative, Inc.

(Petition) of certain obligations imposed on the Participating Members and on Basin Electric under sections 292.303(a) and 292.303(b) of the Commission's Regulations ³ implementing section 210 of the Public Utility Regulatory Policies Act of 1978, as amended, as more fully explained in the petition.

³ 18 CFR 292.303(a) and (b) (2016).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comments: 5:00 p.m. Eastern Time on February 27, 2017.

Dated: February 6, 2017.
Kimberly D. Bose,
Secretary.

[FR Doc. 2017-02948 Filed 2-13-17; 8:45 am]

BILLING CODE 6717-01-P